DEPARTMENT OF HEALTH AND HUMAN SERVICES

Substance Abuse and Mental Health Services Administration

Center for Substance Abuse Prevention; Notice of Meeting

Pursuant to Pub. L. 92-463, notice is hereby given of the meeting of the Substance Abuse and Mental Health Services Administration (SAMHSA) Drug Testing Advisory Board to be held in December 2004.

On December 7, the Board will meet in an open session from 8:30 a.m. to 9:30 a.m. The open session will include a Department of Health and Human Services drug testing program update, a Department of Transportation drug testing program update, and a Nuclear Regulatory Commission drug testing program update. Attendance by the public will be limited to space available. Public comments are welcome. Please communicate with the individual listed as contact below to make arrangements to comment or to request special accommodations for persons with disabilities.

The Board will also meet in closed sessions on December 7 from 9:30 a.m. to 4:30 p.m. and on December 8 from 8:30 a.m. until noon to develop the analytical and administrative policies for the final Revisions to the Mandatory Guidelines for Federal Workplace Drug Testing Program that were published as proposed revisions in the Federal Register on April 13, 2004 (69 FR 19673). The submissions from 285 commenters have been made available to the public on the Web site http://workplace.samhsa.gov. This portion of the meeting must be conducted in closed sessions since discussing such public comments in an open session and then developing the policies will significantly frustrate the Department's ability to develop the Final Notice of Revisions to the Mandatory Guidelines for Federal Workplace Drug Testing Programs. The HHS Office of General Counsel made the determination that such matters are protected by exemption 9(B) of section 552b(c) of title 5 U.S.C. and therefore may be closed to the public.

A roster of the board members may be obtained from: Mrs. Giselle Hersh, Division of Workplace Programs, 1 Choke Cherry Road, Room 2-1035, Rockville, MD 20857, 240-276-2600 (telephone). The transcript of the open session will be available on the following Web site: http://workplace.samhsa.gov. Additional information for this meeting may be obtained by contacting the individual listed below.

Committee Name: Substance Abuse and Mental Health Services, Administration Drug Testing Advisory Board.

Meeting Date: December 7, 2004; 8:30 a.m.-4:30 p.m., December 8, 2004; 8:30 a.m.-Noon.

Place: Residence Inn by Marriott, 7335 Wisconsin Avenue, Bethesda, Maryland 20814.

Type: Open: December 7, 2004; 8:30 a.m.-9:30 a.m., Closed: December 7, 2004; 9:30 a.m.-4:30 p.m., Closed: December 8, 2004; 8:30 a.m.-Noon.

Contact: Donna M. Bush, Ph.D., Executive Secretary, 1 Choke Cherry Road, Room 2-1035, Rockville, Maryland 20857, Email: Donna.Bush@samhsa.hhs.gov, 240-276-2600 (telephone) or 240-276-2610 (fax).

Dated: November 15, 2004.
Toian Vaughn,
Committee Management Officer, Substance Abuse and Mental Health Services Administration.

[FR Doc. 04-26025 Filed 11-23-04; 8:45 am]

BILLING CODE 4162-20-P